DEPARTMENT OF TRANSPORTATION

Federal Aviation Administration

14 CFR Part 97

[Docket No. 30343; Amdt. No. 3035]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective December 13, 2002. The compliance date for each SIAP is specified in the amendatory provisions.

The incorporation by reference of certain publications listed in the regulations is approved by the Director of the Federal Register as of December 13, 2002.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedures before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on December 6, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: §97.23 VOR, VOR/DME, VOR or TACAN, and VOR/DME or TACAN; §97.25 LOC, LOC/DME, LDA, LDA/DME, SDF, SDF/DME; §97.27 NDB, NDB/DME; §97.29 ILS, ILS/DME, ISMLS, MLS, MLS/DME, MLS/RNAV; §97.31 RADAR SIAPs; §97.33 RNAV SIAPs; and §97.35 COPTER SIAPs, identified as follows:

* * *Effective January 23, 2003

Kodiak, AK, Kodiak, VOR OR TACAN Y RWY 25, Orig

Kodiak, AK, Kodiak, NDB RWY 25, Orig

Kodiak, AK, Kodiak, ILS Y RWY 25, Orig

Kodiak, AK, Kodiak, RNAV (GPS) RWY 25, Orig

Kodiak, AK, Kodiak, VOR OR TACAN-1 RWY 25, Amdt 5, CANCELLED

Kodiak, AK, Kodiak, NDB-1 RWY 25, Amdt 3, CANCELLED

Kodiak, AK, Kodiak, ILS/DME-1 RWY 25, Amdt 3. CANCELLED

Kodiak, AK, Kodiak, GPS RWY 25, Orig-A, CANCELLED

Calipatria, CA Cliff Hatfield Memorial, RNAV (GPS) RWY 8, Orig

Daggett, CA, Barstow-Daggett, VOR OR TACAN RWY 22, Amdt 8A

Daggett, CA, Barstow-Daggett, RNAV (GPS) RWY 22, Orig

Daggett, CA, Barstow-Daggett, RMAV (GPS) RWY 26, Orig

Palm Springs, CA Desert Resorts Regional, VOR/DME RWY 30, Amdt 1

Palm Springs, CA Desert Resorts Regional, RNAV (GPS) RWY 30, Orig

Palm Springs, CA Desert Resorts Regional, RNAV (GPS) RWY 35 Orig

La Junta, CO, La Junta Muni, NDB OR GPS RWY 8, Amdt 5A, CANCELLED

Orlando, FL, Orlando Intl, VOR/DME RWY 36R, Amdt 10

St. Augustine, FL, St. Augustine, ILS RWY 31, Orig

Ankeny, IA, Ankeny Regional, RNAV (GPS) RWY 18, Orig

Ankeny, IA, Ankeny Regional, RNAV (GPS) RWY 22, Orig

Sioux City, IA, Sioux Gateway/Col Bud Day Field, NDB RWY 17, Amdt 1

Crisfield, MD, Crisfield Muni, VOR-A, Orig

Crisfield, MD, Crisfield Muni, RNAV (GPS) RWY 32, Orig

Provincetown, MA, Provincetown Muni, NDB RWY 7, Amdt 1

Provincetown, MA, Provincetown Muni, NDB RWY 25, Amdt 2

Provincetown, MA, Provincetown Muni, ILS RWY 7, Amdt 8

Provincetown, MA, Provincetown Muni, RNAV (GPS) RWY 7, Orig

Provincetown, MA, Provincetown Muni, RNAV (GPS) RWY 25, Orig

Pottstown, PA, Pottstown-Limerick, NDB RWY 28, Amdt 1A, CANCELLED

Richfield, UT, Richfield Muni, RNAV (GPS) RWY 19, Orig

Martinsville, VA, Blue Ridge, RNAV (GPS) RWY 12, Orig

Martinsville, VA, Blue Ridge, RNAV (GPS) RWY 30, Orig

Martinsville, VA, Blue Ridge, GPS RWY 12, Orig-A, CANCELLED

Martinsville, VA, Blue Ridge, GPS RWY 30, Orig-A, CANCELLED

The FAA published the following procedures in Docket No. 30332; Amdt No. 30332; Amdt No. 3025 to Part 97 of the Federal Aviation Regulations (Vol. 67, FR No. 195, Page 62639; dated Tuesday, October 08, 2002) under section 97.29 effective November 28, 2002 which are hereby rescinded:

Chicago, IL, Chicago Midway, ILS RWY 13C, Amdt 41

Chicago, IL, Chicago Midway, ILS RWY 31C, Amdt 6

Refer to FDC NOTAM 2/2295 and (General Notice) GENOT 2/59 for further information.

The FAA published the following procedures in Doctket No. 30341; Amdt No. 3033 to Part 97 of the Federal Aviation Regulations (Vol. 67, FR No. 232, Page 71818; dated Tuesday, December 3, 2002) under section 97.29 effective January 23, 2003 which are hereby rescinded:

Farmington, NW, Four Corners Regional, VOR RWY 23, Orig

Farmington, NW, Four Corners Regional, VOR RWY 25, Amdt 10

Farmington, NW, Four Corners Regional, VOR/DME RWY 5, Orig

Farmington, NW, Four Corners Regional, RNAV (GPS) RWY 5, Orig

Farmington, NW, Four Corners Regional, RNAV (GPS) RWY 7, Amdt 1

Farmington, NW, Four Corners Regional, RNAV (GPS) RWY 23, Orig

[FR Doc. 02-31350 Filed 12-12-02; 8:45 am]

BILLING CODE 4910-13-M